DEPARTMENT OF ENERGY

Federal Energy Regulatory Commission

Combined Notice of Filings #1

Take notice that the Commission received the following electric rate filings:

Docket Numbers: ER13-1504-003; ER10-2861-002; ER10-2866-002.

Applicants: SWG Arapahoe, LLC, SWG Colorado, LLC, Fountain Valley Power, L.L.C.

Description: Supplement to December 28, 2016 Triennial Market Power Analysis for the Northwest Region of the Southwest Generation Operating Company Sellers.

Filed Date: 5/16/17.

Accession Number: 20170516-5113.

Comments Due: 5 p.m. ET 6/6/17.

Docket Numbers: ER17-1612-000.

Applicants: PJM Interconnection, L.L.C.

Description: Tariff Cancellation: Notice of Cancellation of Service Agreement No. 3637, Queue No. Y1-084 to be effective 3/27/2017.

Filed Date: 5/16/17.

Accession Number: 20170516-5082.

Comments Due: 5 p.m. ET 6/6/17.

Docket Numbers: ER17-1613-000.

Applicants: PJM Interconnection, L.L.C.

Description: § 205(d) Rate Filing: Wholesale Market Participation Agreement No. 4700; Queue No. AC1-030 to be effective 4/25/2017.

Filed Date: 5/16/17.

Accession Number: 20170516-5087.

Comments Due: 5 p.m. ET 6/6/17.

Docket Numbers: ER17-1614-000.

Applicants: Duke Energy Carolinas, LLC.

Description: § 205(d) Rate Filing: DEC-Due West RS No. 329 Revised PPA to be effective 1/1/2016.

Filed Date: 5/17/17.

Accession Number: 20170517-5007.

Comments Due: 5 p.m. ET 6/7/17.

Docket Numbers: ER17-1615-000.

Applicants: McCallum Enterprises I Limited Partnership.

Description: Request for Waiver of McCallum Enterprises I Limited Partnership.

Filed Date: 5/11/17.

Accession Number: 20170511-5080.

Comments Due: 5 p.m. ET 6/1/17.

Docket Numbers: ER17-1616-000.

Applicants: Solios Power Trading LLC.

Description: Tariff Cancellation: Cancellation of Market Based Rate Tariff to be effective 5/22/2017.

Filed Date: 5/17/17.

Accession Number: 20170517-5044.

Comments Due: 5 p.m. ET 6/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2017.
Kimberly D. Bose,
Secretary.

[FR Doc. 2017-10510 Filed 5-22-17; 8:45 am]

BILLING CODE 6717-01-P